DEPARTMENT OF HEALTH AND HUMAN SERVICES

Centers for Disease Control and Prevention

Disease, Disability, and Injury Prevention and Control Special Emphasis Panel (SEP): Endocrine Disruptors: Epidemiological Approaches, RFA OH-01-001

In accordance with section 10(a)(2) of the Federal Advisory Committee Act (Pub. L. 92-463), the Centers for Disease Control and Prevention (CDC) announces the following meeting.

Name: Disease, Disability, and Injury Prevention and Control Special Emphasis Panel (SEP): Endocrine Disruptors: Epidemiological Approaches, RFA OH-01-001, meeting.

Times and Dates: 8 a.m.-8:30 a.m., February 1, 2001 (Open), 8:30 a.m.-5 p.m., February 1, 2001 (Closed), 8 a.m.-5 p.m., February 2, 2001 (Closed).

Place: Embassy Suites Hotel, 315 Julia Street, New Orleans, Louisiana 70130.

Status: Portions of the meeting will be closed to the public in accordance with provisions set forth in section 552b(c)(4) and (6), Title 5 U.S.C., and the Determination of the Associate Director for Management and Operations, CDC, pursuant to Public Law 92-463.

Matter to be Discussed: The meeting will include the review, discussion, and evaluation of applications received in response to Program Announcement RFA OH-01-001.

Contact Person for more Information: Pervis C. Major, Ph.D., Scientific Review Administrator, National Institute for Occupational Safety and Health, 1095 Willowdale Rd., Morgantown, WV 26505. Phone 304/285-5979, e-mail PMajor@cdc.gov.

The Director, Management Analysis and Services office has been delegated the authority to sign Federal Register notices pertaining to announcements of meetings and other committee management activities, for both the Centers for Disease Control and Prevention and the Agency for Toxic Substances and Disease Registry.

Dated: November 21, 2000.
Carolyn J. Russell,
Director, Management Analysis and Services Office, Centers for Disease Control and Prevention CDC.

[FR Doc. 00-30515 Filed 11-29-00; 8:45 am]

BILLING CODE 4163-19-P